DEPARTMENT OF ENERGY

Federal Energy Regulatory Commission

Combined Notice of Filings

Take notice that the Commission has received the following Natural Gas Pipeline Rate and Refund Report filings:

Docket Numbers: RP20-512-000.

Applicants: Panhandle Eastern Pipe Line Company, LP.

Description: § 4(d) Rate Filing: Negotiated Rates Filing on 2-11-20 to be effective 3/1/2020.

Filed Date: 2/11/20.

Accession Number: 20200211-5010.

Comments Due: 5 p.m. ET 2/24/20.

Docket Numbers: RP20-513-000.

Applicants: Saavi Energy Solutions, LLC, Sempra Gas & Power Marketing, LLC.

Description: Joint Petition For Limited Waiver, et al. of Saavi Energy Solutions, LLC, et al. under RP20-513.

Filed Date: 2/10/20.

Accession Number: 20200210-5199.

Comments Due: 5 p.m. ET 2/24/20.

Docket Numbers: RP20-514-000.

Applicants: Rockies Express Pipeline LLC.

Description: § 4(d) Rate Filing: REX 2020-02-11 Non-Conforming Negotiated Rate Amendment to be effective 2/12/2020.

Filed Date: 2/11/20.

Accession Number: 20200211-5154.

Comments Due: 5 p.m. ET 2/24/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 12, 2020.
Nathaniel J. Davis, Sr.,
Deputy Secretary.

[FR Doc. 2020-03384 Filed 2-19-20; 8:45 am]

BILLING CODE 6717-01-P